DEPARTMENT OF ENERGY

Federal Energy Regulatory Commission

[Docket No. CP06-35-000]

Trunkline Gas Company, LLC; Notice of Application

December 19, 2005.

Take notice that on December 8, 2005, Trunkline Gas Company, LLC (Trunkline), P.O. Box 4967, Houston, Texas 77210-4967, filed an application in Docket No. CP06-35-000, pursuant to section 7(b) and (c) of the Natural Gas Act (NGA) and part 157 of the Commission's regulations, for authorization to abandon an existing 2,000 horsepower (hp) reciprocating gas compressor unit located at Trunkline's existing Cypress Compressor Station (Cypress Station) in Harris County, Texas. Additionally, Trunkline also requests authorization to install and operate a new 7,000 hp electric motor driven centrifugal compressor unit and a new emergency generator at the Cypress Station. The proposal is designed to decrease the NOX emission rate of the Cypress Station and enable Trunkline to meet the required air emission limitations for this site. The proposal would not increase the currently certificated hp level of the Cypress Station nor would it affect the capacity of Trunkline's South Texas mainline system, all as more fully set forth in the application which is on file with the Commission and open to public inspection. The filing may also be viewed on the Web at http://www.ferc.gov using the “eLibrary” link. Enter the docket number excluding the last three digits in the docket number field to access the document. For assistance, call (202) 502-8659 or TTY, (202) 208-3676.

Any questions regarding this application may be directed to Stephen T. Veatch, Sr. Director, Certificates and Tariffs, at (713) 989-2024, Trunkline Gas Company, LLC, 5444 Westheimer Road, Houston, Texas 77056.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. Unless filing electronically, a party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: December 30, 2005.

Magalie R. Salas,
Secretary.

[FR Doc. E5-7923 Filed 12-27-05; 8:45 am]

BILLING CODE 6717-01-P